DEPARTMENT OF LABOR

Employment and Training Administration

[TA-W-63,382; TA-W-63,382A]

Stanley-National Manufacturing Company National Sales Company and National Manufacturing Company, a Subsidiary of the Stanley Works Corporation, Sterling, IL; Including an Employee of Stanley-National Manufacturing Company National Sales Company and National Manufacturing Company, a Subsidiary of the Stanley Works Corporation Sterling, IL; Working Out of Corpus Christi, TX; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility To Apply for Worker Adjustment Assistance and Alternative Trade Adjustment Assistance on July 23, 2008, applicable to workers of Stanley-National Manufacturing Company, National Sales Company, and National Sales Company, a subsidiary of The Stanley Works Corporation, Sterling, Illinois. The notice was published in the Federal Register on August 12, 2008 (73 FR 46923).

At the request of the State agency, the Department reviewed the certification for workers of the subject firm. The workers are engaged in the production of builder's hardware such as hinges, hangers and rails. New information shows that a worker separation has occurred involving an employee (Mr. Dan Lewis) working out of Corpus Christi, Texas, in support of and under the control of Stanley-National Manufacturing Company, National Sales Company and National Manufacturing Company, a subsidiary of The Stanley Works Corporation, Sterling, Illinois.

Based on these findings, the Department is amending this certification to include an employee of the Sterling, Illinois location of the subject firm working out of Corpus Christi, Texas.

The intent of the Department's certification is to include all workers employed by Stanley-National Manufacturing Company, National Sales Company and National Manufacturing Company, a subsidiary of The Stanley Works Corporation, Sterling, Illinois who were adversely affected by increased imports of builder's hardware.

The amended notice applicable to TA-W-63,382 is hereby issued as follows:

“All workers of Stanley-National Manufacturing Company, National Sales Company and National Manufacturing Company, a subsidiary of The Stanley Works Corporation, Sterling, Illinois (TA-W-63,382), including an employee of Stanley-National Manufacturing Company, National Sales Company and National Manufacturing Company, a subsidiary of The Stanley Works Corporation, Sterling, Illinois, working out of Corpus Christi, Texas (TA-W-63,382A), who became totally or partially separated from employment on or after March 2, 2008, through July 23, 2010, are eligible to apply for adjustment assistance under Section 223 of the Trade Act of 1974, and are also eligible to apply for alternative trade adjustment assistance under Section 246 of the Trade Act of 1974.”

Signed at Washington, DC, this 13th day of January 2009.
Linda G. Poole,
Certifying Officer, Division of Trade Adjustment Assistance.

[FR Doc. E9-1487 Filed 1-23-09; 8:45 am]

BILLING CODE 4510-FN-P